ENVIRONMENTAL PROTECTION AGENCY

40 CFR Part 52

[EPA-R06-OAR-2011-0079; FRL-9929-69-Region 6]

Approval and Promulgation of Implementation Plans; Texas; Revision To Control Volatile Organic Compound Emissions From Storage Tanks and Transport Vessels

AGENCY: Environmental Protection Agency (EPA).

ACTION: Withdrawal of direct final rule.

SUMMARY: The Environmental Protection Agency (EPA) is withdrawing a direct final rule published on May 13, 2015 because relevant adverse comments were received. The rule pertained to EPA approval of a Texas State Implementation Plan (SIP) revision for control of volatile organic compound (VOC) emissions from degassing of storage tanks, transport vessels and marine vessels. In a separate subsequent final rulemaking EPA will address the comments received.

DATES: The direct final rule published at 80 FR 27251 on May 13, 2015, is withdrawn effective June 30, 2015.

FOR FURTHER INFORMATION CONTACT: Mr. Robert M. Todd, (214) 665-2156, todd.robert@epa.gov.

SUPPLEMENTARY INFORMATION: Throughout this document wherever “we,” “us,” or “our” is used, we mean the EPA. On May 13, 2015 we published a direct final rule approving a Texas State Implementation Plan (SIP) revision for control of volatile organic compound (VOC) emissions from degassing of storage tanks, transport vessels and marine vessels (80 FR 27251). The direct final rule was published without prior proposal because we anticipated no adverse comments. We stated in the direct final rule that if we received relevant adverse comments by June 12, 2015 we would publish a timely withdrawal in the Federal Register. We received relevant adverse comments and accordingly are withdrawing the direct final rule. In a separate subsequent final rulemaking we will address the comments received.

List of Subjects in 40 CFR Part 52

Environmental protection, Air pollution control, Incorporation by reference, Ozone, Reporting and recordkeeping requirements, Volatile organic compounds.

Dated: June 18, 2015.
Ron Curry,
Regional Administrator, Region 6.

[FR Doc. 2015-15910 Filed 6-29-15; 8:45 am]

BILLING CODE 6560-50-P